DEPARTMENT OF COMMERCE

Foreign-Trade Zones Board

Order No. 1456

Expansion of Foreign-Trade Zone 68, El Paso, Texas

Pursuant to its authority under the Foreign-Trade Zones Act of June 18, 1934, as amended (19 U.S.C. 81a-81u), the Foreign-Trade Zones Board (the Board) adopts the following Order:

Whereas, the City of El Paso, Texas, grantee of Foreign-Trade Zone 68, submitted an application to the Board for authority to expand FTZ 68-Site 1 to include additional acreage at the El Paso International Airport complex and to remove 35 acres from zone status at Site 2-Ivey Development/AAA Park in El Paso, Texas, within the El Paso Customs port of entry (FTZ Docket 59-2005; filed 11/29/05);

Whereas, notice inviting public comment was given in the Federal Register (70 FR 73432, 12/12/05) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 68 is approved, subject to the Act and the Board's regulations, including Section 400.28, and further subject to the Board's standard 2,000-acre activation limit for the overall general-purpose zone project.

Signed at Washington, DC, this 16th day of June 2006.

David M. Spooner,
Assistant Secretary of Commerce for Import Administration, Alternate Chairman, Foreign-Trade Zones Board.
Attest:
Pierre V. Duy,
Acting Executive Secretary.

[FR Doc. E6-10220 Filed 6-28-06; 8:45 am]

BILLING CODE 3510-DS-S